ENVIRONMENTAL PROTECTION AGENCY

[EPA-HQ-OA-2019-0370; FRL-10004-25-OMS]

Information Collection Request Submitted to OMB for Review and Approval; Comment Request; Environmental Impact Assessment of Nongovernmental Activities in Antarctica (Renewal)

AGENCY: Environmental Protection Agency (EPA).

ACTION: Notice.

SUMMARY: The Environmental Protection Agency (EPA) has submitted an information collection request (ICR), Environmental Impact Assessment of Nongovernmental Activities in Antarctica (EPA ICR Number 1808.09, OMB Control Number 2020-0007) to the Office of Management and Budget (OMB) for review and approval in accordance with the Paperwork Reduction Act. This is a proposed extension of the ICR, which is currently approved through May 31, 2020. Public comments were previously requested via the Federal Register on September 30, 2019 during a 60-day comment period. This notice allows for an additional 30 days for public comments. A fuller description of the ICR is given below, including its estimated burden and cost to the public. An agency may not conduct or sponsor and a person is not required to respond to a collection of information unless it displays a currently valid OMB control number.

DATES: Comments must be submitted on or before April 6, 2020.

ADDRESSES: Submit your comments, referencing Docket ID No. EPA-HQ-OA-2019-0370 online using www.regulations.gov (our preferred method) or by mail to: EPA Docket Center, Environmental Protection Agency, Mail Code 28221T, 1200 Pennsylvania Ave. NW, Washington, DC 20460, and (2) OMB via email to oira_submission@omb.eop.gov. Address comments to OMB Desk Officer for the EPA.

The EPA's policy is that all comments received will be included in the public docket without change including any personal information provided, unless the comment includes profanity, threats, information claimed to be Confidential Business Information (CBI) or other information whose disclosure is restricted by statute.

FOR FURTHER INFORMATION CONTACT: Julie Roemele, NEPA Compliance Division, Office of Federal Activities, Mail Code 2203A, Environmental Protection Agency, 1200 Pennsylvania Ave. NW, Washington, DC 20460; telephone number: 202-564-5632; fax number: 202-564-0070; email address: roemele.julie@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The EPA's regulations at 40 CFR part 8, Environmental Impact Assessment of Nongovernmental Activities in Antarctica (Rule), were promulgated pursuant to the Antarctic Science, Tourism, and Conservation Act of 1996 (Act), 16 U.S.C. 2401 et seq., as amended, 16 U.S.C. 2403a, which implements the Protocol on Environmental Protection (Protocol) to the Antarctic Treaty of 1959 (Treaty). The Rule provides for assessment of the environmental impacts of nongovernmental activities in Antarctica, including tourism, for which the United States is required to give advance notice under Paragraph 5 of Article VII of the Treaty, and for coordination of the review of information regarding environmental impact assessments received from other Parties under the Protocol. The requirements of the Rule apply to operators of nongovernmental expeditions organized or proceeding from the territory of the United States to Antarctica and include commercial and non-commercial expeditions. Expeditions may include ship-based tours; yacht, skiing or mountaineering expeditions; privately funded research expeditions; and other nongovernmental activities. The Rule does not apply to individual U.S. citizens or groups of citizens planning travel to Antarctica on an expedition for which they are not acting as an operator. (Operators, for example, typically acquire use of vessels or aircraft, hire expedition staff, plan itineraries, and undertake other organizational responsibilities.) The rule provides nongovernmental operators with the specific requirements they need to meet in order to comply with the requirements of Article 8 and Annex I to the Protocol. The provisions of the Rule are intended to ensure that potential environmental effects of nongovernmental activities undertaken in Antarctica are appropriately identified and considered by the operator during the planning process and that to the extent practicable appropriate environmental safeguards which would mitigate or prevent adverse impacts on the Antarctic environment are identified by the operator.

Persons subject to the Rule must prepare environmental documentation to support the operator's determination regarding the level of environmental impact of the proposed expedition. The environmental document is submitted to the Office of Federal Activities (OFA). If the operator determines that an expedition may have: (1) Less than a minor or transitory impact, a Preliminary Environmental Review Memorandum (PERM) needs to be submitted no later than 180 days before the proposed departure to Antarctica; (2) no more than minor or transitory impacts, an Initial Environmental Evaluation (IEE) needs to be submitted no later than 90 days before the proposed departure; or (3) more than minor or transitory impacts, a Comprehensive Environmental Evaluation (CEE) needs to be submitted.

Environmental documents are reviewed by OFA, in consultation with the National Science Foundation and other interested Federal agencies. OFA notifies the public of document availability at: https://www.epa.gov/international-cooperation/receipt-environmental-impact-assessments-eias-regarding-nongovernmental. The types of nongovernmental activities currently being carried out are typically unlikely to have impacts that are more than minor or transitory, thus an IEE is the typical level of environmental documentation submitted.

Form Numbers: None.

Respondents/affected entities: Operators of nongovernmental expeditions organized or proceeding from the territory of the United States to Antarctica.

Respondent's obligation to respond: Mandatory (40 CFR part 8).

Estimated number of respondents: 25 (total).

Frequency of response: Annual.

Total estimated burden: 1,544 hours (per year). Burden is defined at 5 CFR 1320.03(b).

Total estimated cost: $133,780 (per year), includes $0 annualized capital or operation & maintenance costs.

Changes in Estimates: There is an increase of 327 hours in the total estimated respondent burden compared with the ICR currently approved by OMB. This increase is the result of a change to the number of operators that the EPA anticipates will submit environmental documentation as well as the inclusion of a potential PERM, CEE and Emergency Report submitted by every three years.

Courtney Kerwin,
Director, Regulatory Support Division.

[FR Doc. 2020-04466 Filed 3-4-20; 8:45 am]

BILLING CODE 6560-50-P